DEPARTMENT OF THE INTERIOR

Bureau of Ocean Energy Management, Regulation, and Enforcement

[Docket No. MMS-2010-OMM-0026]

BOEMRE Information Collection Activity: 1010-0081, Operations in the Outer Continental Shelf for Minerals Other Than Oil, Gas, and Sulphur, Extension of a Collection; Comment Request

AGENCY: Bureau of Ocean Energy Management, Regulation, and Enforcement (BOEMRE), Interior.

ACTION: Notice of an extension of an information collection (1010-0081).

SUMMARY: To comply with the Paperwork Reduction Act of 1995 (PRA), BOEMRE is inviting comments on a collection of information that we will submit to the Office of Management and Budget (OMB) for review and approval. The information collection request (ICR) concerns the paperwork requirements in the regulations under 30 CFR 282, Operations in the Outer Continental Shelf for Minerals Other than Oil, Gas, and Sulphur.

DATES: Submit written comments by November 8, 2010.

FOR FURTHER INFORMATION CONTACT: Cheryl Blundon, Regulations and Standards Branch at (703) 787-1607. You may also contact Cheryl Blundon to obtain a copy, at no cost, of the regulation that requires the subject collection of information.

ADDRESSES: You may submit comments by either of the following methods listed below.

• Electronically: Go to http://www.regulations.gov. In the entry titled “Enter Keyword or ID,” enter docket ID MMS-2010-OMM-0026 then click search. Follow the instructions to submit public comments and view supporting and related materials available for this collection. The BOEMRE will post all comments.

• E-mail: cheryl.blundon@mms.gov. Mail or hand-carry comments to the Department of the Interior; Bureau of Ocean Energy Management, Regulation, and Enforcement; Attention: Cheryl Blundon; 381 Elden Street, MS-4024; Herndon, Virginia 20170-4817. Please reference ICR 1010-0081 in your comment and include your name and return address.

SUPPLEMENTARY INFORMATION: Title: 30 CFR Part 282, Operations in the Outer Continental Shelf for Minerals Other than Oil, Gas, and Sulphur.

OMB Control Number: 1010-0081.

Abstract: The Outer Continental Shelf (OCS) Lands Act, as amended (43 U.S.C. 1334 and 43 U.S.C. 1337(k)), authorizes the Secretary of the Interior (Secretary) to implement regulations to grant to the qualified persons, offering the highest cash bonus on a basis of competitive bidding, leases of any mineral other than oil, gas, and sulphur. This applies to any area of the OCS not then under lease for such mineral. This regulation governs mining operations within the OCS for minerals other than oil, gas and sulphur and establishes a comprehensive leasing and regulatory program for such minerals. These regulations have been designed to (1) recognize the differences between the OCS activities associated with oil, gas, and sulphur discovery and development and those associated with the discovery and development of other minerals; (2) facilitate participation by States directly affected by OCS mining activities; (3) provide opportunities for consultation and coordination with other OCS users and uses; (4) balance development with environmental protection; (5) insure a fair return to the public; (6) preserve and maintain free enterprise competition; and (7) encourage the development of new technology.

Regulations at 30 CFR 282 implement these statutory requirements. However, there has been no activity in the OCS for minerals other than oil, gas and sulphur for many years and no associated information collected since 1991. Nevertheless, because these are regulatory requirements, the potential exists for information to be collected and we are renewing OMB approval.

We use the information required by 30 CFR part 282 to determine if lessees are complying with the regulations that implement the mining operations program for minerals other than oil, gas, and sulphur. Specifically, BOEMRE uses the information:

• To ensure that operations for the production of minerals other than oil, gas, and sulphur in the OCS are conducted in a manner that will result in orderly resource recovery, development, and the protection of the human, marine, and coastal environments.

• To ensure that adequate measures will be taken during operations to prevent waste, conserve the natural resources of the OCS, and to protect the environment, human life, and correlative rights.

• To determine if suspensions of activities are in the national interest, to facilitate proper development of a lease including reasonable time to develop a mine and construct its supporting facilities, or to allow for the construction or negotiation for use of transportation facilities.

• To identify and evaluate the cause(s) of a hazard(s) generating a suspension, the potential damage from a hazard(s) and the measures available to mitigate the potential for damage.

• For technical and environmental evaluations which provide a basis for BOEMRE to make informed decisions to approve, disapprove, or require modification of the proposed activities.

We protect proprietary information according to the Freedom of Information Act (5 U.S.C. 552) and its implementing regulations (43 CFR part 2), and 30 CFR 282.5, 282.6, and 282.7 and applicable sections of 30 CFR parts 280 and 281. No items of a sensitive nature are collected. Responses are mandatory.

Frequency: Monthly; on occasion.

Estimated Number and Description of Respondents: As there are no active respondents, we estimated the potential annual number of respondents to be one. Respondents are OCS lessees.

Estimated Reporting and Recordkeeping “Hour” Burden: The currently approved annual reporting burden for this collection is 201 hours. The following chart details the individual components and respective hour burden estimates of this ICR. In calculating the burdens, we assumed that respondents perform certain requirements in the normal course of their activities. We consider these to be usual and customary and took that into account in estimating the burden.

Citation 30 CFR 282 | Reporting or recordkeeping requirement | Hour burden Non-hour cost burden
Subpart A—General
4(a), (b); 11(b); 12(b)(2)(ii); 12(f)(l), (2); 13(d), (e)(2); 21; 22; 25; 26; 28 | Submit delineation plan, including environmental information, contingency plan, monitoring program, and various requests for approval referred to throughout; submit modifications | 40
4(a), (c); 11(b); 12(c)(2)(ii); 12(f)(l), (2); 13(d), (e)(2); 15(d); 21; 23; 25; 26; 28 | Submit testing delineation plan, including environmental information, contingency plan, monitoring program, and various requests for approval referred to throughout; demonstrate compliance before plan disapproved; submit modifications | 40
4(a), (d); 11(b); 12(d)(2)(ii); 12(f)(1), (2); 13(d), (e)(2); 15(d); 21; 24; 25; 26; 28 | Submit mining delineation plan, including environmental information, contingency plan, monitoring program, and various requests for approval referred to throughout; demonstrate compliance before plan disapproved; submit modifications | 40
5; 6; 7 | Request non-disclosure/disclosure of data and information. Governor enters into agreements pertaining to confidentiality; jurisdictional controversies, etc | 10
Subpart B—Jurisdiction and Responsibilities of Director
11(c); 30(a), (b) | Apply for right-of-use and easement; comment on request; demonstrate correct purpose | 30
11(d); | Request consolidation of two or more OCS mineral leases or portions | 1
12(f)(1), (h); 20(g), (h) | Request approval of operations or departure from operating requirements | Burden included with applicable operation.
13(b), (f)(2); 31 | Request suspension or temporary prohibition of production or operations | 2
13(e) | Submit site-specific study plan and results | 8 1 study = $100,000
14 | Submit “green” response copy of Form MMS-1832 indicating date violations (INCs) corrected | 2
Subpart C—Obligations and Responsibilities of Lessees
20(a), (g); | Make available all mineral resource or environmental data and information; submit reports and maintain records | Burden included with applicable operation.
20(c) thru (e) | Submit designation of payor, operator, or local representative; submit changes | 1
21(d) | Notify BOEMRE of preliminary activities | 1
27(b) | Request use of new or alternative technologies, techniques, etc | 1
27(c) | Notify BOEMRE of death or serious injury; fire, exploration, or other hazardous event; submit report | 1
27(d)(2) | Request reimbursement for furnishing food, quarters, and transportation for BOEMRE representatives (no requests received in many years; minimal burden) | 2
27(e) | Identify vessels, platforms, structures, etc. with signs | 1
27(f)(2) | Log all drill holes susceptible to logging; submit copies of logs to BOEMRE | 3
27(h)(3), (4) | Mark equipment; record items lost overboard; notify BOEMRE | 1
29(a); 27(k) | Submit monthly report of minerals produced; request extension; submit other information as required by Director | 1
29(b), (c) | Submit quarterly status and final report on exploration and/or testing activities | 5
29(d) | Submit results of environmental monitoring activities | 5
29(e) | Submit marked and certified maps annually or as required | 1
29(f) | Maintain rock, minerals, and core samples for 5 years and make available upon request | 1
29(g) | Maintain original data and information and navigation tapes as long as lease is in effect and make available upon request | 1
29(h) | Maintain hard mineral records and make available upon request | 1
Subpart D—Payments
40 | Submit surety or personal bond; submit authority for Director to sell security(ies) | 2
Subpart E—Appeals
50; 15 | File an appeal | Burden exempt under 5 CFR 1320.4(a)(2), (c).

Estimated Reporting and Recordkeeping “Non-Hour Cost” Burden: There is one non-hour cost burden associated with § 282.13(e)(1), a site specific study. Since this has not been done to date, we estimated that the cost of such study would cost industry at least $100,000 to comply with the requirement.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedures: Before including your address, phone number, e-mail address, or other personal identifying information in your comment, you should be aware that your entire comment—including your personal identifying information—may be made publicly available at any time. While you can ask us in your comment to withhold your personal identifying information from public review, we cannot guarantee that we will be able to do so.

BOEMRE Information Collection Clearance Officer: Arlene Bajusz (202) 208-7744.

Dated: June 28, 2010.
.
Doug Slitor,
Acting Chief, Office of Offshore Regulatory Programs.

[FR Doc. 2010-22188 Filed 9-3-10; 8:45 am]

BILLING CODE 4310-MR-P